DEPARTMENT OF LABOR

Employment and Training Administration

[TA-W-52,588]

Paxar Corporation, Lenoir, North Carolina; Notice of Termination of Investigation

Pursuant to Section 221 of the Trade Act of 1974, as amended, an investigation was initiated on August 18, 2003 in response to a petition filed by a company official on behalf of workers of Paxar Corporation, Lenoir, North Carolina.

The petitioner has requested that the petition be withdrawn. Consequently, the investigation has been terminated.

Signed at Washington, DC, this 10th day of September 2003.
Linda G. Poole,
Certifying Officer, Division of Trade Adjustment Assistance.

[FR Doc. 03-25735 Filed 10-9-03; 8:45 am]

BILLING CODE 4510-30-P